DEPARTMENT OF THE TREASURY

United States Mint

Meetings: Citizens Coinage Advisory Committee

ACTION: Notification of Citizens Coinage Advisory Committee February 2006 Public Meeting.

SUMMARY: Pursuant to United States Code, Title 31, section 5135 (b)(8)(C), the United States Mint announces the Citizens Coinage Advisory Committee (CCAC) public meeting and Public Forum scheduled for February 28, 2006.

Date: February 28, 2006.

Time: 1 p.m. to 3 p.m.

Location: The United States Mint; 801 Ninth Street, NW.; Washington, DC; Second floor.

Subject: Review of designs for the Presidential $1 Coin Program and other business.

Interested persons should call 202-354-7502 for the latest update on meeting time and room location.

The CCAC was established to:

• Advise the Secretary of the Treasury on any theme or design proposals relating to circulating coinage, bullion coinage, Congressional Gold Medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Joyce Harris, United States Mint Liaison to the CCAC; 801 Ninth Street, NW.; Washington, DC 20220; or call 202-354-7200.

Any member of the public interested in submitting matters for the CCAC's consideration or addressing the CCAC at the Public Forum is invited to submit a request and/or materials by fax to the following number: 202-756-6830.

Authority: 31 U.S.C. 5135(b)(8)(C).

Dated: January 23, 2006.
David A. Lebryk,
Acting Director, United States Mint.

[FR Doc. 06-905 Filed 1-30-06; 8:45 am]

BILLING CODE 4810-37-P